DEPARTMENT OF ENERGY

Federal Energy Regulatory Commission

Combined Notice of Filings

Take notice that the Commission has received the following Natural Gas Pipeline Rate and Refund Report filings:

Filings Instituting Proceedings

Docket Numbers: RP22-485-000.

Applicants: Florida Gas Transmission Company, LLC.

Description: § 4(d) Rate Filing: Negotiated Rates Filing on 1-14-22 to be effective 1/15/2022.

Filed Date: 1/14/22.

Accession Number: 20220114-5032.

Comment Date: 5 p.m. ET 1/26/22.

Docket Numbers: RP22-486-000.

Applicants: Dominion Energy Overthrust Pipeline, LLC.

Description: § 4(d) Rate Filing: Revised Title Page Version No. 6 to be effective 2/14/2022.

Filed Date: 1/14/22.

Accession Number: 20220114-5054.

Comment Date: 5 p.m. ET 1/26/22.

Docket Numbers: RP22-487-000.

Applicants: Dominion Energy Questar Pipeline, LLC.

Description: § 4(d) Rate Filing: Revised Title Page Version No. 8 to be effective 2/14/2022.

Filed Date: 1/14/22.

Accession Number: 20220114-5056.

Comment Date: 5 p.m. ET 1/26/22.

Docket Numbers: RP22-488-000.

Applicants: White River Hub, LLC.

Description: § 4(d) Rate Filing: Revised Title Pages Version No. 5 to be effective 2/14/2022.

Filed Date: 1/14/22.

Accession Number: 20220114-5057.

Comment Date: 5 p.m. ET 1/26/22.

Docket Numbers: RP22-489-000.

Applicants: Trailblazer Pipeline Company LLC.

Description: § 4(d) Rate Filing: TPC 2022-01-14 GT&C Section 18 Revision to be effective 2/14/2022.

Filed Date: 1/14/22.

Accession Number: 20220114-5111.

Comment Date: 5 p.m. ET 1/26/22.

Docket Numbers: RP22-490-000.

Applicants: Transcontinental Gas Pipe Line Company, LLC.

Description: § 4(d) Rate Filing: Clean-Up Filing—January 2022 to be effective 2/14/2022.

Filed Date: 1/14/22.

Accession Number: 20220114-5191.

Comment Date: 5 p.m. ET 1/26/22.

Docket Numbers: RP22-491-000.

Applicants: Great Lakes Gas Transmission Limited Partnership.

Description: Compliance filing: Semi-Annual Transporter's Use Report January 2022 to be effective N/A.

Filed Date: 1/18/22.

Accession Number: 20220118-5197.

Comment Date: 5 p.m. ET 1/31/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-1022-001.

Applicants: Colorado Interstate Gas Company, L.L.C.

Description: Colorado Interstate Gas Company, L.L.C. submits tariff filing per 154.203: Petition to Amend Docket No. RP16-1022 Stipulation and Agreement to be effective N/A.

Filed Date: 01/18/2022.

Accession Number: 20220118-5191.

Comment Date: 5 p.m. ET 1/25/22.

Docket Numbers: RP17-972-002.

Applicants: Wyoming Interstate Company, L.L.C.

Description: Compliance filing: Petition to Amend Docket No. RP17-972 Stipulation and Agreement to be effective N/A.

Filed Date: 1/18/22.

Accession Number: 20220118-5183.

Comment Date: 5 p.m. ET 1/25/22.

Docket Numbers: RP19-276-002.

Applicants: Young Gas Storage Company, Ltd.

Description: Compliance filing: Petition to Amend Docket No. RP19-276 Stipulation and Agreement to be effective N/A.

Filed Date: 1/18/22.

Accession Number: 20220118-5192.

Comment Date: 5 p.m. ET 1/25/22.

Docket Numbers: RP21-734-002.

Applicants: Sea Robin Pipeline Company, LLC.

Description: Compliance filing: Clean Up Filing—Metadata Correction to be effective 7/1/2021.

Filed Date: 1/14/22.

Accession Number: 20220114-5037.

Comment Date: 5 p.m. ET 1/26/22.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 19, 2022.
Debbie-Anne A. Reese,
Deputy Secretary.

[FR Doc. 2022-01378 Filed 1-24-22; 8:45 am]

BILLING CODE 6717-01-P